DEPARTMENT OF COMMERCE

International Trade Administration

[A-580-889]

Dioctyl Terephthalate From the Republic of Korea: Final Results of Antidumping Duty Administrative Review; 2017-2018

AGENCY: Enforcement and Compliance, International Trade Administration, Department of Commerce.

SUMMARY: The Department of Commerce (Commerce) determines that producers or exporters subject to this review made sales of subject merchandise at less than normal value during the period of review (POR) February 3, 2017 through July 31, 2018.

DATES: Applicable April 21, 2020.

FOR FURTHER INFORMATION CONTACT: Laurel LaCivita or Laura Griffith, AD/CVD Operations, Office III, Enforcement and Compliance, International Trade Administration, U.S. Department of Commerce, 1401 Constitution Avenue NW, Washington, DC 20230; telephone: (202) 482-4243 or (202) 482-6430, respectively.

SUPPLEMENTARY INFORMATION:

Background

On October 18, 2019, Commerce published the Preliminary Results for this administrative review.¹ We invited interested parties to comment on the Preliminary Results.² This review covers three respondents: Aekyung Petrochemical Co., Ltd. (AKP), Hanwha Chemical Corporation (Hanwha Chemical), and LG Chem Ltd. (LG Chem). We received case briefs from AKP and Hanwha Chemical on November 18, 2019.³ We received a rebuttal brief from the Eastman Chemical Company (the petitioner) on November 25, 2019.⁴ Commerce conducted this review in accordance with section 751 of the Tariff Act of 1930, as amended (the Act).

¹ See Dioctyl Terephthalate from the Republic of Korea: Preliminary Results of Antidumping Duty Administrative Review; 2017-2018, 84 FR 55904 (October 18, 2019) (Preliminary Results) and accompanying Preliminary Decision Memorandum.

² See Preliminary Results, 84 FR at 55905.

³ See AKP's Letter, “Administrative Review of Dioctyl Terephthalate from Korea: Case Brief of Aekyung Petrochemical Co., Ltd.,” dated November 18, 2019; see also Hanwha Chemical's Letter, “Dioctyl Terephthalate (DOTP) from the Republic of Korea: Case Brief,” dated November 18, 2019.

⁴ See Petitioner's Letter, “Rebuttal Case Brief; dioctyl terephthalate (DOTP) from Korea,” dated November 25, 2019.

Scope of the Order

The merchandise covered by the order is dioctyl terephthalate (DOTP), regardless of form. DOTP that has been blended with other products is included within this scope when such blends include constituent parts that have not been chemically reacted with each other to produce a different product. For such blends, only the DOTP component of the mixture is covered by the scope of this order.⁵

⁵ For a full description of the scope of the order, see Memorandum, “Issues and Decision Memorandum for the Finals Results of the 2017-2018 Administrative Review of the Antidumping Duty Order Covering Dioctyl Terephthalate from the Republic of Korea,” dated concurrently with, and hereby adopted by, this notice (Issues and Decision Memorandum).

Subject merchandise is currently classified under subheading 2917.39.2000 of the Harmonized Tariff Schedule of the United States (HTSUS). Subject merchandise may also enter under subheadings 2917.39.7000 or 3812.20.1000 of the HTSUS. While the CAS registry number and HTSUS classification are provided for convenience and customs purposes, the written description of the scope of this order is dispositive.

Analysis of the Comments Received

All issues raised in the case and rebuttal briefs by parties to this review are addressed in the accompanying Issues and Decision Memorandum. A list of the issues which parties raised, and to which we respond in the Issues and Decision Memorandum, is attached at the appendix. The Issues and Decision Memorandum is a public document and is on file electronically via Enforcement and Compliance's Antidumping and Countervailing Duty Centralized Electronic System (ACCESS). ACCESS is available to registered users at https://access.trade.gov. In addition, a complete version of the Issues and Decision Memorandum can be accessed directly at http://enforcement.trade.gov/frn/index.html. The signed and electronic versions of the Issues and Decision Memorandum are identical in content.

Changes Since the Preliminary Results

Based on a review of the record and comments received from interested parties regarding our Preliminary Results, we made certain changes to the weighted-average dumping margin for AKP. For detailed information, see the Issues and Decision Memorandum.

Final Results of the Administrative Review

We determine that the following weighted-average dumping margins exist for the respondents for the period February 3, 2017 through July 31, 2018:

Exporter or producer | Weighted-average dumping margin (percent)
Aekyung Petrochemical Co., Ltd | 0.82
Hanwha Chemical Corporation | 22.97
LG Chem Ltd | 0.00

Assessment Rates

Pursuant to section 751(a)(2)(A) of the Act and 19 CFR 351.212(b)(1), Commerce will determine, and U.S. Customs and Border Protection (CBP) shall assess, antidumping duties on all appropriate entries of subject merchandise in accordance with the final results of this review. We will calculate importer-specific assessment rates on the basis of the ratio of the total amount of dumping calculated for each importer's examined sales and the total entered value of the importer's sales in accordance with 19 CFR 351.212(b)(1).

Where the respondent's weighted-average dumping margin is either zero or de minimis within the meaning of 19 CFR 351.106(c), or an importer-specific rate is zero or de minimis, we will instruct CBP to liquidate the appropriate entries without regard to antidumping duties.

We intend to issue liquidation instructions to CBP 15 days after publication of the final results of this review.

Cash Deposit Requirements

The following deposit requirements will be effective for all shipments of subject merchandise entered, or withdrawn from warehouse, for consumption on or after the publication date of the final results of this administrative review, as provided by section 751(a)(2)(C) of the Act: (1) The cash deposit rate for the companies listed above will be equal to each company's weighted-average dumping margin established in the final results of this administrative review; (2) for merchandise exported by a producer or exporter not covered in this review but covered in a prior completed segment of the proceeding, the cash deposit rate will continue to be the company-specific rate published for the most recent period; (3) if the exporter is not a firm covered in this review, a prior review, or the original investigation but the producer has been covered in a prior complete segment of this proceeding, the cash deposit rate will be the rate established for the most recent period for the producer of the merchandise; (4) the cash deposit rate for all other producers or exporters will continue to be 3.69 percent,⁶ the all-others rate established in the less-than-fair-value investigation. These cash deposit requirements, when imposed, shall remain in effect until further notice.

⁶ See Dioctyl Terephthalate from the Republic of Korea: Antidumping Duty Order, 82 FR 39410 (August 18, 2017).

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification Regarding Administrative Protective Order

This notice also serves as a reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing these final results of administrative review in accordance with sections 751(a)(1) and 777(i) of the Act, and 19 CFR 351.221(b)(5).

Dated: April 15, 2020.
Christian B. Marsh,
Deputy Assistant Secretaryfor Enforcement and Compliance.

Appendix

List of Topics Discussed in the Issues and Decision Memorandum

I. Summary

II. Background

III. Scope of the Order

IV. Changes Since the Preliminary Results of Review

V. Discussion of the Issues

Comment 1: AKP's Differential Pricing Analysis

Comment 2: Errors in AKP's Preliminary Margin Calculations

Comment 3: Constructed Export Price Offset for Hanwha Chemical

VI. Recommendation

[FR Doc. 2020-08414 Filed 4-20-20; 8:45 am]

BILLING CODE 3510-DS-P